ENVIRONMENTAL PROTECTION AGENCY

40 CFR Part 180

[EPA-HQ-OPP-2017-0006; FRL-9975-57]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before May 11, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerance Exemptions for Inerts (Except PIPS)

1. PP IN-11074. (EPA-HQ-OPP-2018-0032). Spring Trading Company, 203 Dogwood Trail, Magnolia, TX 77354, on behalf of Clariant Corporation, Clariant Plastics & Coatings, (Deutschland) GmbH, Bruningstrasse 50, 65929 Frankfurt am Main, Germany, requests to establish an exemption from the requirement of a tolerance for residues of rice bran wax (CAS Reg. No. 1883583-80-9) when used as an inert ingredient in pesticide formulations under 40 CFR 180.910, 180.930, and 180.940(a). The petitioner believes no analytical method is needed because it is not required for an exemption from the requirement of a tolerance. Contact: RD.

2. PP IN-11075. (EPA-HQ-OPP-2018-0091). ADAMA Agan, Ltd., c/o Makhteshim Agan of North America, Inc., 3120 Highwoods Blvd., Suite 100, Raleigh NC, requests to establish an exemption from the requirement of a tolerance for residues of calcium formate; (CAS Reg. No. 544-17-2) when used as an inert ingredient (carrier) in pesticide formulations applied to growing crops under 40 CFR 180.920. The petitioner believes no analytical method is needed because it is not required for an exemption from the requirement of a tolerance. Contact: RD.

3. PP IN-11083. (EPA-HQ-OPP-2018-0089). Morse Enterprises Limited, Inc., d/b/a KeyPlex, P.O. Box 2515, Winter Park, FL 32790, requests to establish an exemption from the requirement of a tolerance for residues of α-terpineol (CAS Reg. No. 98-55-5) when used as an inert ingredient (solvent) in pesticide formulations applied to growing crops under 40 CFR 180.920. The petitioner believes no analytical method is needed because it is not required for an exemption from the requirement of a tolerance. Contact: RD.

4. PP IN-11093. (EPA-HQ-OPP-2018-0090). Morse Enterprises Limited Inc. d/b/a KeyPlex, P.O. Box 2515, Winter Park, FL 32790, requests to establish an exemption from the requirement of a tolerance for residues of trans-anethole (CAS Reg. No. 4180-23-8) when used as an inert ingredient (fragrance) in pesticide formulations applied to growing crops under 40 CFR 180.920. The petitioner believes no analytical method is needed because it is not required for an exemption from the requirement of a tolerance. Contact: RD.

5. PP IN-11112. (EPA-HQ-OPP-2018-0071). SciReg, Inc., 12733 Director's Loop, Woodbridge, VA 22192, on behalf of Solvay USA Inc., 504 Carnegie Center Princeton, NJ 08540, requests to establish an exemption from the requirement of a tolerance for residues for oxirane, 2-methyl-, polymer with oxirane, mono[2-[2-(2-methoxymethylethoxy)methylethoxy]methylether] ether (CAS Reg. No. 2112825-11-1) with a minimum number average molecular weight (in amu) of 10,000 Daltons, when used as an inert ingredient in pesticide formulations under 40 CFR 180.960. The petitioner believes no analytical method is needed because it is not required for an exemption from the requirement of a tolerance. Contact: RD.

New Tolerance Exemptions for Non-Inerts (Except PIPS)

1. PP 7F8626. (EPA-HQ-OPP-2018-0070). Ecolab, Inc., 1 Ecolab Place, St. Paul, MN 55102, requests to establish an exemption from the requirement of a tolerance in 40 CFR part 180 for residues of the antimicrobial pesticide C10-C16 Alkylbenzene Sulfonates in or on food contact surfaces in public eating places, dairy processing equipment, and food processing equipment and utensils up to a maximum of 700 ppm when ready for use, in the end-use concentration. The petitioner believes no analytical method is needed because an exemption from the requirement of a tolerance is being proposed. Contact: AD.

2. PP 7F8655. (EPA-HQ-OPP-2018-0092). Clarke Mosquito Control Products, Inc., 675 Sidwell Ct., St. Charles, IL 60174, requests to establish an exemption from the requirement of a tolerance in 40 CFR part 180 for residues of the insecticide l-carvone in or on all raw agricultural commodities. The petitioner believes no analytical method is needed because residues of this chemical are not expected on food commodities due to the ultra-low application rates and the volatile nature of the chemical, which has a vapor pressure of 24.37 Pascals at 25°C and falls into the category of “intermediate to high volatility under field conditions.” Contact: BPPD.

New Tolerances for Non-Inerts

1. PP 7E8636. (EPA-HQ-OPP-2018-0037). Syngenta Crop Protection, LLC, P.O. Box 18300, Greensboro, NC 27419, requests to establish a tolerance in 40 CFR part 180 for residues of the insecticide avermectin B1 (a mixture of avermectins containing greater than or equal to 80% avermectin B1a (5-O-demethyl avermectin A1) and less than or equal to 20% avermectin B1b (5-O-demethyl-25-de(1-methylpropyl)-25-(1-methylethyl) avermectin A1)) in or on the raw agricultural commodity tea at 1 parts per million (ppm). The analytical methods involve homogenization, filtration, partition, and cleanup with analysis by high performance liquid chromatography (HPLC)-fluorescence detection. Contact: RD.

2. PP 7E8637. (EPA-HQ-OPP-2018-0037). Syngenta Crop Protection, LLC, P.O. Box 18300, Greensboro, NC 27419, requests to establish a tolerance in 40 CFR part 180 for residues of the insecticide avermectin B1 (a mixture of avermectins containing greater than or equal to 80% avermectin B1a (5-O-demethyl avermectin A1) and less than or equal to 20% avermectin B1b (5-O-demethyl-25-de(1-methylpropyl)-25-(1-methylethyl) avermectin A1)) in or on the raw agricultural commodity banana at 0.002 parts per million (ppm). The analytical methods involve homogenization, filtration, partition, and cleanup with analysis by high performance liquid chromatography (HPLC)-fluorescence detection. Contact: RD.

3. PP 7E8656. (EPA-HQ-OPP-2018-0047). Bayer CropScience, 2 T.W. Alexander Drive, Research Triangle Park, NC 27709, requests to establish a tolerance in 40 CFR part 180 for residues of the fungicide isotianil, 3,4-dichloro-2′-cyano-1,2-thiazole-5-carboxanilide in or on banana, fruit at 0.01 parts per million (ppm). The analytical method involves solvent extraction, purification through a Chromabond XTR cartridge (diatomaceous earth) column, and addition of a mixture of stable, isotopically labelled internal standards. Quantitation is by high performance liquid chromatography-electrospray ionization/tandem mass spectrometry (HPLC/MS/MS). Contact: RD.

4. PP 7F8572. (EPA-HQ-OPP-2017-0510). FMC Corporation, 2929 Walnut Street, Philadelphia, PA 19104, requests to establish a tolerance in 40 CFR part 180 for residues of the herbicide pethoxamid in or on corn, field, forage at 0.015 parts per million (ppm); corn, field, stover at 0.02 ppm; corn, field, grain at 0.01 ppm; popcorn, stover at 0.01 ppm; popcorn, grain at 0.01 ppm; corn, sweet, forage at 0.50 ppm; corn, sweet, stover at 0.60 ppm; corn, sweet, kernel plus cobb with husk removed at 0.01 ppm; cotton, undelinted seed at 0.01 ppm; cotton, gin byproducts at 0.09 ppm; soybean, forage at 3.0 ppm; soybean, hay at 4.5 ppm; and soybean, seed at 0.01 ppm. An LC-MS/MS method is used to measure and evaluate the chemical pethoxamid. Contact: RD.

5. PP 7F8622. (EPA-HQ-OPP-2017-0694). DuPont Crop Protection, Stine-Haskell Research Center, P.O. Box 30, Newark, DE 19714-0030, requests to establish a tolerance in 40 CFR part 180 for residues of the insecticide, cyantraniliprole, in or on rice, hulls at 0.05 parts per million (ppm), rice, straw at 0.015 ppm, soybean, forage at 15 ppm, soybean, hay at 50 ppm, soybean, seed at 0.4 ppm, soybean, hulls at 1 ppm, and aspirated grain fractions at 200 ppm. Upon approval of the proposed tolerances in soybean forage and hay, it is proposed that the existing tolerances for indirect or inadvertent residues in soybean forage and hay be cancelled. In addition, DuPont Crop Protection requests to amend the tolerance(s) in 40 CFR.672, in or on rice, grain at 0.02 ppm by replacing an existing tolerance at the same level that is only for imported grain with a tolerance supporting both domestic production and imported grain. The high-pressure liquid chromatography with ESI- MS/MS detection is used to measure and evaluate the chemical. Contact: RD.

Authority: 21 U.S.C. 346a.

Dated: March 20, 2018.
Delores Barber,
Director, Information Technology and Resources Management Division, Office of Pesticide Programs.

[FR Doc. 2018-07516 Filed 4-10-18; 8:45 am]

BILLING CODE 6560-50-P